DEPARTMENT OF COMMERCE

National Oceanic and Atmospheric Administration

50 CFR Part 600

[I.D. 032803C]

Magnuson-Stevens Act Provisions; General Provisions for Domestic Fisheries; Application for Exempted Fishing Permits (EFPs)

AGENCY: National Marine Fisheries Service (NMFS), National Oceanic and Atmospheric Administration (NOAA), Department of Commerce.

ACTION: Notification of a proposal for EFPs to conduct experimental fishing; request for comments.

SUMMARY: The Administrator, Northeast Region, NMFS (Regional Administrator) has made a preliminary determination that the subject EFP application contains all the required information and warrants further consideration. The Regional Administrator has also made a preliminary determination that the activities authorized under the EFP would be consistent with the goals and objectives of the Northeast (NE) Multispecies Fishery Management Plan (FMP). However, further review and consultation may be necessary before a final determination is made to issue the EFP. Therefore, NMFS announces that the Regional Administrator proposes to issue an EFP that would allow one vessel to conduct fishing operations that are otherwise restricted by the regulations governing the fisheries of the Northeastern United States. The EFP would allow for exemptions from the requirement to count DAS under this EFP against his NE multispecies DAS allocation; the fishing restrictions imposed by the GOM rolling closure areas; and the minimum fish size requirements for the temporary retention of undersized fish for data collection purposes. The EFP would allow these exemptions for not more than 20 days of sea trials. All experimental work would be monitored by a UNH Cooperative Extension technician.

Regulations under the Magnuson-Stevens Fishery Conservation and Management Act require publication of this notification to provide interested parties the opportunity to comment on applications for proposed EFPs.

DATES: Comments on this document must be received on or before April 23, 2003.

ADDRESSES: Written comments should be sent to Patricia A. Kurkul, Regional Administrator, NMFS, Northeast Regional Office, 1 Blackburn Drive, Gloucester, MA 01930. Mark the outside of the envelope “Comments on UNH Cooperative Extension Shallow Gillnet Selectivity EFP Proposal.” Comments may also be sent via facsimile (fax) to (978) 281-9135.

FOR FURTHER INFORMATION CONTACT: Brian Hooker, Fishery Management Specialist, phone 978-281-9220.

SUPPLEMENTARY INFORMATION: The UNH Cooperative Extension submitted an application for an EFP on January 24, 2003, with final revisions received on March 21, 2003. The experimental fishing application requests authorization to allow the collection of data on the performance of two gillnet designs that are intended to utilize differences in behavior and closeness to the seabed between flatfish and cod. It is hypothesized that the shallower nets will have better species and size selectivity than either regular roundfish gillnets, tie-down gillnets, and foam-core flatfish gillnets, thereby reducing discards of GOM cod and allowing fishermen to continue to fish for flatfish without exceeding the cod possession limits. The time period for this experiment would be May 1-August 31, 2003. The location of the experiment would be bounded by the New England shoreline, west of 69° W. long., and north of 42° N. lat. The experiment would use a total of 40 gillnets, 300 ft (91.44 m) in length with 7-inch (17.7 cm) mesh. The control group nets would be 25 meshes deep while the experimental group nets would be 12 and 8 meshes deep.

The applicant has requested an exemption from 20 NE multispecies DAS to conduct the experiment. The applicant has also requested an exemption from GOM rolling closures III and IV. The applicant has also requested that the vessel be allowed to land any legal-sized fish for which he is permitted, for commercial sale within GOM possession limits. There would be some bycatch of sub-legal sized fish associated with the experiment (approximately 420 lb (190.5 kg) of cod, 1,740 lb (789 kg) of dogfish and 100 lb (45.36 kg) of mixed fluke, dabs, mackerel and pollock). All undersized fish will be returned to the water as soon as practicable after the measurements are recorded. Estimated total landings, excluding discards, is approximately 20,000 lb (9,072 kg) of mixed multispecies (9,000 lb (4,082 kg) cod, 10,000 lb (4,536 kg) dogfish, and 1,000 lb (454 kg) of mixed fluke, dabs, mackerel, and pollock) based upon 50 percent of the commercial catch rate. A technician from the UNH Cooperative Extension would be on the vessel for all of the trips associated with this EFP. The participating vessel would be required to comply with applicable state landing laws and report all landings on the Federal Fishing Vessel Trip Report.

Based on the results of this EFP, this action may lead to future rulemaking.

Authority: 16 .S.C. 1801 et seq.

Dated: April 2, 2003.
Richard W. Surdi,
Acting Director, Office of Sustainable Fisheries, National Marine Fisheries Service.

[FR Doc. 03-8554 Filed 4-7-03; 8:45 am]

BILLING CODE 3510-22-S